ENVIRONMENTAL PROTECTION AGENCY

[ER-FRL-9002-9]

Environmental Impacts Statements; Notice of Availability

Responsible Agency: Office of Federal Activities, General Information (202) 564-7146 or http://www.epa.gov/compliance/nepa/.

Weekly receipt of Environmental Impact Statements

Filed 04/30/2012 Through 05/04/2012

Pursuant to 40 CFR 1506.9.

Notice

Section 309(a) of the Clean Air Act requires that EPA make public its comments on EISs issued by other Federal agencies. EPA's comment letters on EISs are available at: http://www.epa.gov/compliance/nepa/eisdata.html.

Supplementary Information: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120136, Final Supplement, APHIS, NY, Bird Hazard Reduction Program, John F. Kennedy International Airport, Updated Information on the Efficacy and Impacts of the Gull Hazard Reduction Program and All Other Bird Hazard Management Activities, Queens County, NY, Review Period Ends: 06/13/2012, Contact: Martin S. Lowney 518-477-4837.

EIS No. 20120137, Draft EIS, USFS, 00, Mountain Pine Beetle Response Project, Implementing Multiple Resource Management Activities, Black Hills National Forest, Custer, Fall River, Lawrence, Meade, and Pennington Counties, SD and Crook and Weston Counties, WY, Comment Period Ends: 06/25/2012, Contact: Katie Van Alstyne 605-343-1567.

EIS No. 20120138, Draft EIS, USACE, FL, Tarmac King Road Limestone Mine, Construction, Issuance of Permit, Levy County, FL, Comment Period Ends: 07/11/2012, Contact: Edward Sarfert 850-439-9533.

EIS No. 20120139, Draft EIS, NPS, GA, Fort Pulaski National Monument General Management Plan and Wilderness Study, Implementation, Chatham County, GA, Comment Period Ends: 07/09/2012, Contact: David Libman 404-507-5701.

EIS No. 20120140, Final EIS, USAF, OH, Wright-Patterson Air Force Base (WPAFB) Project, Reconfigure and Relocate Facilities and Base Perimeter Fence Relocation in Area A, Fairborn, OH, Review Period Ends: 06/11/2012, Contact: Estella Holmes 937-522-3522.

EIS No. 20120141, Final EIS, USFS, CO, Beaver Creek Mountain Improvements Project, Special Use Permit, White River National Forest, Eagle County, CO, Review Period Ends: 06/11/2012, Contact: Don Dressler 970-827-5157.

EIS No. 20120142, Draft EIS, USN, 00, Atlantic Fleet Training and Testing Activities, To Support and Conduct Current, Emerging, and Future Training and Testing Activities along the Eastern Coast of the U.S. and Gulf of Mexico, Comment Period Ends: 06/25/2012, Contact: Jene Nissen 757-836-5221.

EIS No. 20120143, Draft EIS, USN, 00, Hawaii-Southern California Training and Testing Activities, To Support and Conduct Current, Emerging, and Future Training and Testing Activities off Southern California and around the Hawaiian Islands, CA, HI, Comment Period Ends: 06/25/2012, Contact: Alex Stone 619-545-8128.

EIS No. 20120144, Draft EIS, USAF, CA, F-15 Aircraft Conversion, 144th Fighter Wing, California National Guard, To Convert the Unit from the F-16 Fighting Falcon Aircraft and Operations to the F-15 Eagle Aircraft and Operations at Fresno-Yosemite International Airport, Fresno County, CA, Comment Period Ends: 06/25/2012, Contact: Robert Dogan 240-612-8859.

EIS No. 20120145, Draft EIS, BR, CA, Water Transfer Program for the San Joaquin River Exchange Contractors Water Authority, 2014-2038, To Execute Agreements for Water Transfers/or Exchanges, San Joaquin Valley, Fresno, Madera, Merced, and Stanislaus Counties, CA, Comment Period Ends: 07/03/2012, Contact: Bradley Hubbard 916-978-5204.

Dated: May 8, 2012.
Cliff Rader,
Director, NEPA Compliance Division, Office of Federal Activities.

[FR Doc. 2012-11467 Filed 5-10-12; 8:45 am]

BILLING CODE 6560-50-P